DEPARTMENT OF HOMELAND SECURITY

Federal Emergency Management Agency

[Docket ID FEMA-2013-0002; Internal Agency Docket No. FEMA-B-1328]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Alabama:
Jefferson | City of Leeds (12-04-8094P) | The Honorable David Miller, Mayor, City of Leeds, 1040 Park Drive, Leeds, AL 35094 | City Hall, 100 9th Street, Southeast, Leeds, AL 35094 | http://www.bakeraecom.com/index.php/alabama/jefferson-3/ | August 5, 2013 | 010125
Arizona:
Maricopa | City of Glendale (12-09-3189P) | The Honorable Jerry Weiers, Mayor, City of Glendale, 5850 West Glendale Avenue, Glendale, AZ 85301 | City Hall, 5850 West Glendale Avenue, Glendale, AZ 85301 | http://www.r9map.org/Docs/12-09-3189P-040045-102D.pdf | August 2, 2013 | 040045
Arizona:
Maricopa | City of Glendale (13-09-0598P) | The Honorable Jerry Weiers, Mayor, City of Glendale, 5850 West Glendale Avenue, Glendale, AZ 85301 | City Hall, 5850 West Glendale Avenue, Glendale, AZ 85301 | http://www.r9map.org/Docs/13-09-0598P-040045-102D.pdf | August 9, 2013 | 040045
Maricopa | City of Peoria (12-09-2079P) | The Honorable Bob Barrett, Mayor, City of Peoria, 8401 West Monroe Street, Peoria, AZ 85345 | City Hall, 8401 West Monroe Street, Peoria, AZ 85345 | http://www.r9map.org/Docs/12-09-2079P-040050-102IAC.pdf | July 12, 2013 | 040050
Maricopa | City of Phoenix (13-09-0598P) | The Honorable Greg Stanton, Mayor, City of Phoenix, 200 West Washington Street, 11th Floor, Phoenix, AZ 85003 | Street Transportation, Department, 200 West Washington Street, 5th Floor, Phoenix, AZ 85003 | http://www.r9map.org/Docs/13-09-0598P-040051-102D.pdf | August 9, 2013 | 040051
Maricopa | Unincorporated areas of Maricopa County (12-09-3189P) | The Honorable Andy Kunasek, Chairman, Maricopa County Board of Supervisors, 301 West Jefferson, 10th Floor, Phoenix, AZ 85003 | Flood Control District of Maricopa County, 2801 West Durango Street, Phoenix, AZ 85009 | http://www.r9map.org/Docs/12-09-3189P-040037-102D.pdf | August 2, 2013 | 040037
Maricopa | Unincorporated areas of Maricopa County (13-09-0598P) | The Honorable Andy Kunasek, Chairman, Maricopa County Board of Supervisors, 301 West Jefferson, 10th Floor, Phoenix, AZ 85003 | Flood Control District of Maricopa County, 2801 West Durango Street, Phoenix, AZ 85009 | http://www.r9map.org/Docs/13-09-0598P-040037-102D.pdf | August 9, 2013 | 040037
Yuma | Unincorporated areas of Yuma County (12-09-2329P) | The Honorable Gregory S. Ferguson, Chairman, Yuma County Board of Supervisors, 198 South Main Street, Yuma, AZ 85364 | Department of Development Services, 2351 West 26th Street, Yuma, AZ 85364 | http://www.r9map.org/Docs/12-09-2329P-040099-102IAC.pdf | August 9, 2013 | 040099
California:
Los Angeles | City of Santa Clarita (12-09-2819P) | The Honorable Bob Kellar, Mayor, City of Santa Clarita, 23920 Valencia Boulevard, Santa Clarita, CA 91355 | City Hall, 23920 Valencia Boulevard, Suite 300, Santa Clarita, CA 91355 | http://www.r9map.org/Docs/12-09-2819P-060729-102IAC.pdf | August 9, 2013 | 060729
San Bernardino | City of Redlands (12-09-0729P) | The Honorable Pete Aguilar, Mayor, City of Redlands, P.O. Box 3005, Redlands, CA 92373 | City Hall, 35 Cajon Street, Redlands, CA 92373 | http://www.r9map.org/Docs/12-09-0729P-060279-102IAC.pdf | August 2, 2013 | 060279
San Bernardino | City of San Bernardino (12-09-0729P) | The Honorable Patrick J. Morris, Mayor, City of San Bernardino, 300 North D Street, 6th Floor, San Bernardino, CA 92418 | Water Department, 399 Chandler Place, San Bernardino, CA 92408 | http://www.r9map.org/Docs/12-09-0729P-060281-102IAC.pdf | August 2, 2013 | 060281
Ventura | City of Simi Valley (13-09-1538P) | The Honorable Bob Huber, Mayor, City of Simi Valley, 2929 Tapo Canyon Road, Simi Valley, CA 93063 | City Hall, 2929 Tapo Canyon Road, Simi Valley, CA 93063 | http://www.r9map.org/Docs/13-09-1538P-060421-102IAC.pdf | August 16, 2013 | 060421
Sierra | Unincorporated areas of Sierra County (13-09-0454P) | The Honorable Scott A. Schlefstein, Chairman, Sierra County Board of Supervisors, P.O. Drawer D, Downieville, CA 95936 | Sierra County Department of Planning, Sierra County Courthouse Annex, 101 Courthouse Square, Downieville, CA 95936 | http://www.r9map.org/Docs/13-09-0454P-060630-102IAC.pdf | August 16, 2013 | 060630
Colorado:
Adams | City of Thornton (13-08-0065P) | The Honorable Heidi Williams, Mayor, City of Thornton, 9500 Civic Center Drive, Thornton, CO 80229 | City Hall, 12450 Washington Street, Thornton, CO 80241 | http://www.bakeraecom.com/index.php/colorado/adams/ | July 26, 2013 | 080007
Boulder | Unincorporated areas of Boulder County (13-08-0273P) | The Honorable Cindy Domenico, Chair, Boulder County Board of Commissioners, P.O. Box 471, Boulder, CO 80306 | Boulder County Transportation Department, 2525 13th Street, Suite 203, Boulder, CO 80306 | http://www.bakeraecom.com/index.php/colorado/boulder/ | August 2, 2013 | 080023
Denver | City and County of Denver (13-08-0098P) | The Honorable Michael B. Hancock, Mayor, City and County of Denver, 1437 Bannock Street, Suite 350, Denver, CO 80202 | Public Works Department, 201 West Colfax Avenue, Denver, CO 80202 | http://www.bakeraecom.com/index.php/colorado/denver/ | August 9, 2013 | 080046
Douglas | Unincorporated areas of Douglas County (13-08-0136P) | The Honorable Jill Repella, Chair, Douglas County Board of Commissioners, 100 3rd Street, Castle Rock, CO 80104 | Douglas County Department of Public Works, Engineering Division, 100 3rd Street, Castle Rock, CO 80104 | http://www.bakeraecom.com/index.php/colorado/douglas-2/ | August 9, 2013 | 080049
Florida:
Lee | Unincorporated areas of Lee County (12-04-4132P) | The Honorable Cecil L. Pendergrass, Chairman, Lee County Board of Commissioners, P.O. Box 398, Fort Myers, FL 33902 | Lee County Community Development Department, 1500 Monroe Street, 2nd Floor, Fort Myers, FL 33901 | http://www.bakeraecom.com/index.php/florida/lee-5/ | August 16, 2013 | 125124
Orange | City of Orlando (13-04-0940P) | The Honorable Buddy Dyer, Mayor, City of Orlando, P.O. Box 4990, Orlando, FL 32808 | One City Commons, 400 South Orange Avenue, Orlando, FL 32801 | http://www.bakeraecom.com/index.php/florida/orange-2/ | August 2, 2013 | 120186
Sarasota | Unincorporated areas of Sarasota County (13-04-1684P) | The Honorable Carolyn Mason, Chair, Sarasota County Commission, 1660 Ringling Boulevard, Sarasota, FL 34236 | Sarasota County Operations Center, 1001 Sarasota Center Boulevard, Sarasota, FL 34236 | http://www.bakeraecom.com/index.php/florida/sarasota/ | August 9, 2013 | 125144
Sarasota | Unincorporated areas of Sarasota County (13-04-1985P) | The Honorable Carolyn Mason, Chair, Sarasota County Commission, 1660 Ringling Boulevard, Sarasota, FL 34236 | Sarasota County Operations Center, 1001 Sarasota Center Boulevard, Sarasota, FL 34236 | http://www.bakeraecom.com/index.php/florida/sarasota/ | August 23, 2013 | 125144
Nevada:
Washoe | Unincorporated areas of Washoe County (13-09-0552P) | The Honorable David Humke, Chairman, Washoe County Board of Commissioners, P.O. Box 11130, Reno, NV 89520 | Washoe County Administration Building, Department of Public Works, 1001 East 9th Street, Reno, NV 89512 | http://www.r9map.org/Docs/13-09-0552P-320019-102IAC.pdf | August 23, 2013 | 320019
South Carolina:
Charleston | City of Folly Beach (12-04-6719P) | The Honorable Tim Goodwin, Mayor, City of Folly Beach, P.O. Box 1692, Folly Beach, SC 29439 | City Hall, 21 Center Street, Folly Beach, SC 29439 | http://www.bakeraecom.com/index.php/southcarolina/charleston-2/ | July 26, 2013 | 455415
Georgetown | Unincorporated areas of Georgetown County (12-04-7938P) | The Honorable Johnny Morant, Chairman, Georgetown County Council, P.O. Drawer 437, Georgetown, SC 29442 | Georgetown County Courthouse, 129 Screven Street, Georgetown, SC 29440 | http://www.bakeraecom.com/index.php/southcarolina/georgetown/ | August 12, 2013 | 450085
Utah:
Davis | City of Kaysville (13-08-0218P) | The Honorable Steve A. Hiatt, Mayor, City of Kaysville, 697 North 240 East, Kaysville, UT 84037 | City Hall, 3 East Center, Kaysville, UT 84037 | http://www.bakeraecom.com/index.php/utah/davis/ | August 2, 2013 | 490046

(Catalog of Federal Domestic Assistance No. 97.022, “Flood Insurance.”)

Dated: July 2, 2013.
Roy Wright,
Deputy Associate Administrator for Mitigation, Department of Homeland Security, Federal Emergency Management Agency.

[FR Doc. 2013-17463 Filed 7-19-13; 8:45 am]

BILLING CODE 9110-12-P